ENVIRONMENTAL PROTECTION AGENCY

40 CFR Part 52

[TX-42-1-6274b; FRL-7521-1]

Approval and Promulgation of Implementation Plans for Texas; Approval of Section 179B Demonstration of Attainment, Carbon Monoxide Motor Vehicle Emissions Budget for Conformity, and Contingency Measure for El Paso Carbon Monoxide Nonattainment Area

AGENCY: Environmental Protection Agency (EPA).

ACTION: Proposed rule.

SUMMARY: The EPA is approving, through direct final action, a revision to the Texas State Implementation Plan (SIP), submitted to show attainment of the Carbon Monoxide (CO) National Ambient Air Quality Standard (NAAQS) in the El Paso CO nonattainment area, but for emissions emanating from outside of the United States. The EPA is also approving the El Paso area's CO emissions budget, and a CO contingency measure requirement. The State submitted the revisions to satisfy sections 179B and other part D requirements of the Federal Clean Air Act (CAA).

DATES: Written comments on proposed rule are due on or before August 1, 2003.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Suite 700, Dallas, TX 75202-2377.

Texas Commission on Environmental Quality, 12100 Park 35 Circle, Austin, Texas 78753.

FOR FURTHER INFORMATION CONTACT: Joe Kordzi of the EPA Region 6 Air Planning Section, at (214) 665-7186 and at the Region 6 address above.

SUPPLEMENTARY INFORMATION: In the “Rules and Regulations” section of this Federal Register, EPA is approving the State's SIP revision as a direct final rule without prior proposal because EPA views this as a noncontroversial revision and anticipates no adverse comment. The EPA has explained its reasons for this approval in the preamble to the direct final rule. If EPA receives no relevant adverse comment, EPA will not take further action on this proposed rule. If EPA receives relevant adverse comment, EPA will withdraw the direct final rule and it will not take effect. The EPA will address all public comments in a subsequent final rule based on this proposed rule. The EPA will not institute a second comment period on this action. Any parties interested in commenting must do so at this time.

For additional information, see the direct final rule located in the “Rules and Regulations” section of this Federal Register.

Authority: 42 U.S.C. 7401 et seq.

Dated: June 20, 2003.
Lawrence E. Starfield,
Acting Regional Administrator, Region 6.

[FR Doc. 03-16580 Filed 7-1-03; 8:45 am]

BILLING CODE 6560-50-P